DEPARTMENT OF THE INTERIOR

National Park Service

Statue of Liberty NM and Ellis Island, New York and New Jersey; Notice of Availability of Draft Environmental Impact Statement

In accordance with the National Environment Policy Act of 1969 (Pub. L. 91-109 section 102(c)), the National Park Service (NPS) has prepared a Draft Environmental Impact Statement (DEIS) for Ellis Island located in upper New York Harbor, within the States of New Jersey and New York. The purpose of the DEIS is to assess the environmental consequences of alternative management strategies for the rehabilitation and adaptive reuse of 30 abandoned and deteriorating buildings on Ellis Island and limited service and emergency access that is described in a Development Concept Plan (DCP) that forms the basis for the DEIS.

Copies of the DCP/DEIS are available in hard copy or Compact Disk and may be obtained by contacting the Superintendent, Statue of Liberty NM and Ellis Island, Ellis Island Receiving Office, Jersey City, NJ 07305. The DCP/DEIS may also be accessed via the park's Web site at www.nps.gov/elis.

The NPS will also hold informational meetings in New Jersey and Manhattan to present the management strategies and to provide the public with an opportunity to comment.

Meeting times and locations will be posted in area newspapers and on the park's Web site noted above.

Written comments may be sent to the Superintendent until August 8, 2003. After public and interagency review of the draft document comments will be considered, and a Final EIS and Record of Decision shall be prepared.

Dated: May 16, 2003.
Robert W. McIntosh, Jr.,
Associate Regional Director, Planning and Partnerships, Northeast Region, National Park Service.

[FR Doc. 03-15977 Filed 6-24-03; 8:45 am]

BILLING CODE 4310-6E-M